DEPARTMENT OF HOUSING AND URBAN DEVELOPMENT

[Docket No. FR-5001-N-01]

Transfer of Home Mortgage Disclosure Act (HMDA) Data Collection to Federal Reserve Board

AGENCY: Office of the Assistant Secretary for Housing—Federal Housing Commissioner, HUD.

ACTION: Notice.

SUMMARY: This notice advises mortgagees that are required by the Home Mortgage Disclosure Act (HMDA) and Regulation C of the Federal Reserve Board (Board) to submit HMDA data to HUD to submit their annual HMDA reports, due on or before March 1st of each year, to the Board of Governors of the Federal Reserve, and not to HUD.

DATES: Effective September 15, 2005.

FOR FURTHER INFORMATION CONTACT: Jerry Fasick, Office of Evaluation, Department of Housing and Urban Development, 451 Seventh Street, SW., Washington, DC 20410-8000, telephone (202) 755-7500 (this is not a toll-free number). Hearing- or speech-impaired individuals may access this number through TTY by calling the toll-free Federal Information Relay Service at (800) 877-8339.

SUPPLEMENTARY INFORMATION:

Who Must Report HMDA Data

All mortgagees, lenders, and loan correspondents that meet the requirements of Regulation C of the Board (see 12 U.S.C. part 203) must report each year data required by HMDA (12 U.S.C. 2801 et seq.). Coverage criteria and requirements are specified in “A Guide To HMDA Reporting—Getting It Right!” and on the Federal Financial Institutions Examination Council (FFIEC) HMDA Web site at http://www.ffiec.gov/hmda. Those requirements apply to for-profit mortgage-lending institutions (other than a bank, savings association, or credit union) that, in the preceding calendar year, either:

(i)(A) Originated (made credit decision on) home purchase loans, including refinancing of home purchase loans, that equaled at least 10 percent of its loan-origination volume, measured in dollars; or

(B) Originated (made credit decision on) home purchase loans, including refinancings of home purchase loans, that equaled at least $25 million; and

(ii) On the preceding December 31, had a home or branch office in a Metropolitan Statistical Area/Metropolitan Division (MSA/MD); or received applications for, originated or repurchased five or more home purchase loans, home improvement loans, or refinancings on property located in an MSA/MD; and

(iii)(A) On the preceding December 31, had total assets of more than $10 million, counting the assets of any parent corporation; or

(B) In the preceding calendar year, originated (made credit decision on) at least 100 home purchase loans, including refinancings of home purchase loans.

HMDA requires at 12 U.S.C. 2803(h) that supervised lenders, whether or not they are lenders approved by the Federal Housing Administration (FHA), submit their HMDA data to their appropriate supervising agencies, i.e., the Board of Governors of the Federal Reserve System, the Federal Deposit Insurance Corporation, the Office of the Comptroller of the Currency, the Office of Thrift Supervision, or the National Credit Union Administration. Currently, all HMDA data are submitted directly to the Board for initial processing. Non-supervised lenders, regardless of whether or not they are FHA-approved, must submit their HMDA data to HUD (through the Board) with one exception. Regulation C, Disclosure and Reporting, at 12 CFR 203.5(a)(2), provides that a subsidiary of a bank or savings association shall submit its data directly or through its parents to the agency that supervises the parent. Therefore, non-supervised FHA-approved lenders and loan correspondents, which are subsidiaries of supervised lending institutions, are not required to submit their HMDA data to HUD.

FFIEC HMDA Data Entry Software

The FFIEC HMDA data entry software is available for download from the FFIEC HMDA Web site. Note that the next scheduled release of the software, Version 3.10, for calendar year 2005 data collection is available by download from the FFIEC HMDA Web site. The software is free and can be utilized for editing, reporting and submitting HMDA information.

The FFIEC HMDA Web site provides detailed information on the required file specifications for HMDA reporting (http://www.ffiec.gov/hmda/fileformats.htm). HUD would like to emphasize that it is extremely important for an institution that uses a third-party vendor to prepare and transmit its HMDA report to notify the third-party vendor immediately of this change, i.e., that non-supervised FHA-approved lenders and loan correspondents, which are subsidiaries of supervised lending institutions, are not required to submit their HMDA data to HUD. It is also important that an institution inform its vendor of the Board's file specification and editing requirements.

HMDA Editing and Reporting

In addition, an institution's HMDA data must be edited prior to submission using the FFIEC HMDA edits (http://www.ffiec.gov/hmda/edits.htm). Regulation C requires all HMDA data submissions to be free of validity errors prior to submission. An institution must submit a validity-free submission or the institution is at risk of noncompliance.

If an institution utilizes a third-party vendor's software package, the institution can still take advantage of the benefits of the HMDA Data Entry Software by using the editing and reporting features. The software includes editing and reporting features to help the institution verify, complete, and analyze the institution's HMDA data. The ‘Import' feature will accept a valid ‘hmda.dat' file created in a third-party vendor's software that meets the HMDA file specifications. Once the file has been successfully imported into the software, the user can utilize the editing and reporting features. The ‘Export to Regulatory Agency via Internet e-mail' feature creates a validity error-free encrypted file that can be transmitted via Internet e-mail directly to the Board at HMDASUB@frb.gov. Users may download a free copy of the software at http://www.ffiec.gov/hmda.

Please note that reel tape submissions are not an accepted media type. Internet e-mail submission is the preferred electronic method to transmit an institution's data. Other electronic submission media types that can be used are diskette and CD-ROM. However, regardless of the media type chosen, users must follow the HMDA file specifications and edits.

HMDA Submission Checklist

• Prepare the HMDA data submission.

• Download a free copy of the FFIEC HMDA Data Entry Software (http://www.ffiec.gov/hmda).

• ‘Import' the correctly formatted 2004 ‘mda.dat' file for editing purposes.

• Perform a ‘Batch Edit' on the HMDA data and correct all validity errors.

• Choose the (1) ‘Export' option from the Front Page. Choose the (2) ‘Export to regulatory agency via Internet e-mail' option for encrypted submission to the Board.

• Address the e-mail to HMDASUB@frb.gov, include all the required institution information and attach the encrypted HMDA file named HMDAENCR.ENC located at the following path: C:/HMDADES/int/hmdaencr.enc.

• Send your encrypted, validity-free, HMDA data submission to the Board on or before March 1st of each year.

Submission Address

Send the encrypted e-mail file to HMDASUB@frb.gov for HMDA reporting on or before March 1st of each year. Sending the submission via Internet e-mail is the most efficient process for submitting the HMDA data. If an institution chooses to mail (overnight) its submission in one of the other acceptable media types—diskette or CD-ROM—the mailing address is as follows and the mailing must be postmarked by March 1 of each year:

Federal Reserve Board, ATTN: HMDA Processing, HUD, 20th & Constitution Avenue, NW., MS N502, Washington, DC 20551-0001.

HMDA Questions

Questions regarding the processing and reporting of HMDA data should be addressed to HMDAHELP@frb.gov or the HMDA Assistance Line on 202-452-2016.

Information Collection Requirements

The information collection requirements contained in this notice have been approved by the Office of Management and Budget (OMB) under the Paperwork Reduction Act of 1995 (44 U.S.C. 3501-3520) and assigned OMB control number 2502-0529. In accordance with the Paperwork Reduction Act, HUD may not conduct or sponsor, and a person is not required to respond to, a collection of information unless the collection displays a currently valid OMB number.

Dated: August 5, 2005.
Brian Montgomery,
Assistant Secretary for Housing-Federal Housing Commissioner.

[FR Doc. E5-4457 Filed 8-15-05; 8:45 am]

BILLING CODE 4210-27-P